DEPARTMENT OF THE TREASURY

Agency Information Collection Activities; Submission for OMB Review; Comment Request; Application, Reports, and Recordkeeping for the Social Impact Partnerships To Pay for Results Act (SIPPRA) Grant Program

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before June 24, 2019.

ADDRESSES: Send comments regarding the burden estimate, or any other aspect of the information collection, including suggestions for reducing the burden, to Treasury PRA Clearance Officer, 1750 Pennsylvania Ave. NW, Suite 8142, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Title: Application, Reports, and Recordkeeping for the Social Impact Partnerships to Pay for Results Act (SIPPRA) Grant Program.

OMB Control Number: 1505-0260.

Type of Review: Revision of a currently approved collection.

Abstract: Authorized under the Bipartisan Budget Act of 2018, the Social Impact Partnerships to Pay for Results Act (SIPPRA), amends Title XX of the Social Security Act, 42 U.S.C. 1397 et seq., to provide $100 million in funding to implement “Social Impact Partnership Demonstration Projects” (projects) and feasibility studies to assist states and local governments in applying for project funding. SIPPRA authorizes the Secretary of the Treasury (Secretary) to enter into award agreements with state or local governments for projects addressing entrenched social problems. SIPPRA requires Treasury to conduct a request for proposals for projects, make award decisions, and enter into project award agreements. Treasury is publishing a Notice of Funding Availability (NOFA) seeking applications for projects, and anticipates that ten or more persons will respond to its notice announcing availability of funding for SIPPRA projects.

Although Treasury is asking applicants to use the SF-424 family of common forms for their applications, in order to effectively and efficiently assess and evaluate applications and ensure that projects comply with statutory requirements, Treasury is also soliciting additional detailed information from applicants. This request only includes the burden for this additional information. The burden for the SF-424 forms is covered under OMB Control Numbers 4040-0004, 4040-0006, 4040-0007, 4040-0008, 4040-0009 and 4040-0013. The additional information includes the following components:

• Notice of Intent to Apply;

• Project Narrative, to include an Executive Summary;

• Project Narrative Attachments, to include project budget, partnership agreements, partner qualifications, independent evaluator qualifications, evaluation design plan, independent evaluator contract, outcome valuation (for which Treasury's SIPPRA website will provide a tool to assist applicants), legal compliance, and (optional) additional supporting documentation such as a preexisting feasibility study;

• DUNS Number and SAM registration;

• Copy of application proposing privileged or confidential information to be redacted;

• Administrative Reporting, including Annual Performance Report, Evaluation Progress Reports, and Final Evaluation Report;

• Records Retention

Form: SIPPRA Grant Application, Recordkeeping, and Reports.

Affected Public: State, Local, and Tribal Governments.

Estimated Total Annual Burden Hours: 2,190.

Authority: 44 U.S.C. 3501 et seq.

Dated: May 17, 2019.
Jennifer P. Quintana,
Treasury PRA Clearance Officer.

[FR Doc. 2019-10747 Filed 5-22-19; 8:45 am]

BILLING CODE 4810-25-P